NATIONAL CREDIT UNION ADMINISTRATION

Submission for OMB Review; Comment Request

AGENCY: National Credit Union Administration (NCUA).

ACTION: Notice.

SUMMARY: The National Credit Union Administration (NCUA) will be submitting the following information collection requests to the Office of Management and Budget (OMB) for review and clearance in accordance with the Paperwork Reduction Act of 1995, Public Law 104-13, on or after the date of publication of this notice.

DATES: Comments should be received on or before September 28, 2016 to be assured of consideration.

ADDRESSES: Send comments regarding the burden estimate, or any other aspect of the information collection, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Alexandria, VA 22314, Suite 5067, or email at PRAComments@ncua.gov.

FOR FURTHER INFORMATION CONTACT: Copies of the submission may be obtained by emailing PRAComments@ncua.gov or viewing the entire information collection request at www.reginfo.gov.

SUPPLEMENTARY INFORMATION: OMB Number: 3133-0004.

Type of Review: Revision of a previously approved collection.

Title: NCUA Call Report and Profile.

Form: NCUA Forms 5300 and 4501A.

Abstract: NCUA Form 5300, Call Report, is used to file quarterly financial and statistical data and NCUA Form 4501A, Credit Union Profile, is used to obtain non-financial data relevant to regulation and supervision such as the names of senior management and volunteer officials, and are reported through NCUA's on-line portal, Credit Unions Online. This information collection is being revised to remove data elements associated with the reporting of Credit Union Service Organizations (CUSO). In early 2016, reporting of CUSOs was conducted separately from the Call Report and Profile through the new CUSO Registry portal (OMB No. 3133-0149). To eliminate duplicate reporting and reduce the burden associated with this collection, NCUA is removing the CUSO identification section from the Call Report and reporting of CUSO usage from the Profile.

Affected Public: Private Sector: Not-for-profit institutions.

Estimated Annual Burden Hours: 144,504.

OMB Number: 3133-0032.

Type of Review: Extension of a previously approved collection.

Title: Records Preservation, 12 CFR part 749.

Abstract: Part 749 requires all federally insured credit unions (FICUs) to maintain a records preservation program. The program must be in writing and include a schedule for the storage and destruction of records and emergency contact information for employees, officials, regulatory offices, and vendors used to support vital records. The records preservation program requirement enables FICUs to reconstruct their vital records in the event records are destroyed by a catastrophe and facilitates restoration of vital member services.

Affected Public: Private Sector: Not-for-profit institutions.

Estimated Annual Burden Hours: 12,074.

OMB Number: 3133-0059.

Type of Review: Extension of a previously approved collection.

Title: Supervisory Committee Audits and Verifications, 12 CFR part 715.

Abstract: Part 715 prescribes the responsibilities of the supervisory committee to obtain an audit of the credit union and verification of member accounts. A supervisory committee audit is required at least once every calendar year covering the period since the last audit and to conduct a verification of members' accounts not less frequently than once every two years. The information is used by both the credit union and the NCUA to ensure through audit testing that the credit union's assets, liabilities, equity, income, and expenses exist, are properly valued, controlled and meet ownership, disclosure and classification requirements of sound financial reporting.

Affected Public: Private Sector: Not-for-profit institutions.

Estimated Annual Burden Hours: 38,693.

OMB Number: 3133-0114.

Type of Review: Extension of a previously approved collection.

Title: Payments on Shares by Public Units and Nonmembers.

Abstract: Under § 701.32, a Federal Credit Union may receive from public units and political subdivisions (as defined in § 754.1) and nonmember credit unions, payments on shares. Limitations on nonmember and public unit deposits in federally insured credit unions is 20 percent of their shares or $3 million, whichever is greater. The information collection requirements is for those credit unions seeking an exemption from the nonmember deposit limit must adopt a specific written plan concerning the intended use of those shares and submit along with their lending and investment policies to the NCUA Regional Director. NCUA uses this information to determine whether or not a particular credit union will be granted an exemption to the limit on nonmember and public unit deposits.

Affected Public: Private Sector: Not-for-profit institutions.

Estimated Annual Burden Hours: 82.

By Gerard Poliquin, Secretary of the Board, the National Credit Union Administration, on August 24, 2016.

Dated: August 24, 2016.
Dawn D. Wolfgang,
NCUA PRA Clearance Officer.

[FR Doc. 2016-20649 Filed 8-26-16; 8:45 am]

BILLING CODE 7535-01-P